DEPARTMENT OF TRANSPORTATION

Federal Aviation Administration

14 CFR Part 39

[Docket No. FAA-2025-1729; Project Identifier MCAI-2024-00568-T; Amendment 39-23183; AD 2025-22-05]

RIN 2120-AA64

Airworthiness Directives; Dassault Aviation Airplanes

AGENCY: Federal Aviation Administration (FAA), DOT.

ACTION: Final rule.

SUMMARY: The FAA is superseding Airworthiness Directive (AD) 2022-12-10, which applied to certain Dassault Aviation Model FALCON 7X airplanes. AD 2022-12-10 required revising the existing airplane flight manual (AFM) to provide emergency procedures for inconsistent or unreliable flight data, emergency and abnormal operations procedures for the generic input/output (GEN I/O) internal module failure, and emergency procedures for additional information. AD 2022-12-10 also required revising the existing minimum equipment list (MEL) for the multi-function probe heating, air data, and inertial reference systems. Since the FAA issued AD 2022-12-10, the manufacturer developed modifications that fix a weak point in the avionics architecture. This AD continues to require the actions in AD 2022-12-10 and removes certain airplanes from the applicability. This AD also requires modification of the avionics system and related revisions to the existing AFM and MEL. The FAA is issuing this AD to address the unsafe condition on these products.

DATES: This AD is effective January 2, 2026.

The Director of the Federal Register approved the incorporation by reference of a certain publication listed in this AD as of January 2, 2026.

ADDRESSES:

AD Docket: You may examine the AD docket at regulations.gov under Docket No. FAA-2025-1729; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For European Union Aviation Safety Agency (EASA) material identified in this AD, contact EASA, Konrad-Adenauer-Ufer 3, 50668 Cologne, Germany; telephone +49 221 8999 000; email ADs@easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2025-1729.

FOR FURTHER INFORMATION CONTACT: William Reisenauer, Aviation Safety Engineer, FAA, 1600 Stewart Avenue, Suite 410, Westbury, NY 11590; phone: 516-228-7301; email: 9-AVS-AIR-BACO-COS@faa.gov.

SUPPLEMENTARY INFORMATION:

Background

The FAA issued a notice of proposed rulemaking (NPRM) to amend 14 CFR part 39 to supersede AD 2022-12-10, Amendment 39-22082 (87 FR 45246, July 28, 2022) (AD 2022-12-10). AD 2022-12-10 applied to all Dassault Aviation Model FALCON 7X airplanes, except airplanes having Dassault modification M2091 embodied in production. AD 2022-12-10 required revising the existing AFM to provide emergency procedures for inconsistent or unreliable flight data, emergency and abnormal operations procedures for the GEN I/O internal module failure, and emergency procedures for additional information. AD 2022-12-10 also required revising the operator's existing FAA-approved MEL items for the multi-function probe heating, air data, and inertial reference systems. The FAA issued AD 2022-12-10 to address misleading data on display units, which could reduce safety margins and lead to increased pilot workload, possibly resulting in reduced controllability of the airplane.

The NPRM was published in the Federal Register on August 6, 2025 (90 FR 37810). The NPRM was prompted by AD 2023-0003R1, dated September 26, 2024 (EASA AD 2023-0003R1) (also referred to as the MCAI), issued by EASA, which is the Technical Agent for the Member States of the European Union. The MCAI states that EASA superseded EASA AD 2021-0197, dated August 23, 2021 (which corresponds to AD 2022-12-10), with EASA AD 2022-0145, dated July 12, 2022 (EASA AD 2022-0145). EASA AD 2022-0145 was issued to retain the requirements of EASA AD 2021-0197, exclude airplanes on which Dassault modification M2091 was embodied in production, and require airplane serial numbers (S/Ns) 402 and subsequent with the “EASy III—2nd CERT” or “EASy III—3rd CERT” standard to upgrade the avionics architecture to the “EASY III—4th CERT” standard (modification M2091).

EASA AD 2022-0145, in turn, was superseded by EASA AD 2023-0003, dated January 6, 2023 (EASA AD 2023-0003). EASA AD 2023-0003 was issued to retain the requirements of EASA AD 2022-0145, exclude airplanes on which Dassault modification M2096 or M2097 was embodied in production, and require airplane S/Ns 2 through 400 inclusive to upgrade the avionics architecture to the “EASy II—5th CERT” standard (modification M2096 or M2097, as applicable).

Since EASA AD 2023-0003 was issued, Dassault developed modifications M2055 (for airplane S/Ns 2 through 400 inclusive) and M2059 (for airplane S/Ns 402 and subsequent) that upgrade the avionics architecture to the “EASy IV” standard and issued Dassault Service Bulletin 7X-600, dated November 7, 2022; Dassault Service Bulletin 7X-601, April 24, 2023; and Dassault Service Bulletin 7X-602, June 3, 2023; as applicable, to provide in-service modification instructions. EASA AD 2023-0003 was subsequently revised by EASA AD 2023-0003R1 to exclude airplanes on which modifications M2055 or M2059 were embodied in production and allow incorporation of those modifications in service as an optional method of compliance for modifications M2091, M2096, or M2097, as applicable.

In the NPRM, the FAA proposed to continue to require the actions in AD 2022-12-10 and remove from the applicability airplanes on which Dassault modification M2055, M2059, M2096, or M2097 were embodied in production. The FAA also proposed to require modification of the avionics system and related revisions to the existing AFM and MEL, as specified in EASA AD 2023-0003R1. The FAA is issuing this AD to address the unsafe condition on these products.

You may examine the MCAI in the AD docket at regulations.gov under Docket No. FAA-2025-1729.

Discussion of Final Airworthiness Directive

Comments

The FAA received no comments on the NPRM or on the determination of the cost to the public.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, this AD is adopted as proposed in the NPRM. None of the changes will increase the economic burden on any operator.

Material Incorporated by Reference Under 1 CFR Part 51

The FAA reviewed EASA AD 2023-0003R1, which specifies revising the (1) existing AFM to provide emergency procedures for inconsistent or unreliable flight data and emergency and abnormal operations procedures for the GEN I/O internal module failure; (2) existing FAA-approved MEL items for the multi-function probe heating, air data, and inertial reference systems and modular avionic unit (MAU) #1B; and (3) operational suitability manual—flight crew (OSM-FC). This material also specifies procedures for modifying the avionics system and incorporating related AFM and MEL revisions.

This material also describes optional procedures for modifying the avionics architecture to the “EASy IV” standard, revising the existing AFM to incorporate revision 6 or revision 25, as applicable, and revising the existing FAA-approved MEL to incorporate revision 16. Accomplishing the optional modification and AFM revision is an acceptable method of compliance for the applicable modification that upgrades the avionics architecture to “EASy III—4th CERT” or “EASy II—5th CERT” and related AFM revision. In addition, accomplishing the optional MEL revision is an acceptable method of compliance for the corresponding revisions to MEL items for the multi-function probe heating, air data, and inertial reference systems and MAU #1B.

This material is reasonably available because the interested parties have access to it through their normal course of business or by the means identified in the ADDRESSES section.

Interim Action

The preamble to AD 2022-12-10 specifies that the FAA considers that AD “interim action” and that the FAA might consider further rulemaking if a final action is identified. The manufacturer has since developed modifications (i.e., software upgrades) that fix a weak point in the avionics architecture to address the unsafe condition. The FAA has determined that the modifications and related AFM and MEL revisions should be required.

Costs of Compliance

The FAA estimates that this AD affects 160 airplanes of U.S. registry. The FAA estimates the following costs to comply with this AD:

Estimated Costs for Required Actions
Action | Labor cost | Parts cost | Cost per product | Cost on U.S. operators
Retained actions from AD 2022-12-10 (MEL and AFM revisions) | 2 work-hours × $85 per hour = $170 | $0 | $170 | $27,200
New actions (modification and AFM and MEL revisions) | 10 work-hours × $85 per hour = $850 | * 0 | 850 | 136,000
* The FAA has received no definitive data on which to base the cost estimates for the parts specified in this AD.

Estimated Costs for Optional Actions
Labor cost | Parts cost | Cost per product
Up to 302 work-hours × $85 per hour = $25,670 | Up to $782,394 | $808,064

According to the manufacturer, some or all of the costs of this AD may be covered under warranty, thereby reducing the cost impact on affected individuals. The FAA does not control warranty coverage for affected individuals. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2022-12-10, Amendment 39-22082 (87 FR 45246, July 28, 2022); and

b. Adding the following new AD:

2025-22-05 Dassault Aviation: Amendment 39-23183; Docket No. FAA-2025-1729; Project Identifier MCAI-2024-00568-T.

(a) Effective Date

This airworthiness directive (AD) is effective January 2, 2026.

(b) Affected ADs

This AD replaces AD 2022-12-10, Amendment 39-22082 (87 FR 45246, July 28, 2022) (AD 2022-12-10).

(c) Applicability

This AD applies to Dassault Aviation Model FALCON 7X airplanes, certificated in any category, as identified in European Union Aviation Safety Agency (EASA) AD 2023-0003R1, dated September 26, 2024 (EASA AD 2023-0003R1).

Note 1 to paragraph (c): Model FALCON 7X airplanes with Dassault modification M1000 incorporated are commonly referred to as “Model FALCON 8X” as a marketing designation.

(d) Subject

Air Transport Association (ATA) of America Code 34, Navigation.

(e) Unsafe Condition

This AD was prompted by a report of a weak point identified in the Falcon 7X “EASy” avionics architecture, which, coupled with theoretical generic input/output (I/O) card failure, could lead to misleading data on display units and by development of modifications that fix that weak point in the avionics architecture. The FAA is issuing this AD to address misleading data on display units. The unsafe condition, if not addressed, could reduce safety margins and lead to increased pilot workload, possibly resulting in reduced controllability of the airplane.

(f) Compliance

Comply with this AD within the compliance times specified, unless already done.

(g) Requirements

Except as specified in paragraphs (h) and (i) of this AD: Comply with all required actions and compliance times specified in, and in accordance with, EASA AD 2023-0003R1.

(h) Exceptions to EASA AD 2023-0003R1

(1) Where EASA AD 2023-0003R1 refers to September 6, 2021 (the effective of EASA AD 2021-0197), this AD requires using September 1, 2022 (the effective date of AD 2022-12-10).

(2) Where EASA AD 2023-0003R1 refers to July 26, 2022 (the effective date of EASA AD 2022-0145, dated July 12, 2022), and January 20, 2023 (the effective date of EASA AD 2023-0003, dated January 6, 2023), this AD requires using the effective date of this AD.

(3) Where paragraph (1) of EASA AD 2023-0003R1 requires operators to “inform all flight crews, and, thereafter, ensure that each pilot has performed the training and operates the aeroplane accordingly,” and paragraph (2.2) of EASA AD 2023-0003R1 requires operators to “inform all flight crews, and, thereafter, operate the aeroplane accordingly,” this AD does not require those actions as those actions are already required by existing FAA operating regulations (see 14 CFR 91.9, 91.505, 121.137, and 121.628(a)(2) and (5)).

(4) Where paragraph (1.3) of EASA AD 2023-0003R1 specifies to “Implement the instructions of the MMEL-CP”, this AD requires replacing that text with “Revise the operator's existing FAA-approved minimum equipment list (MEL) to incorporate that information (“the MMEL-CP” as specified in EASA AD 2023-0003R1)”.

(5) Paragraph (1.4) of EASA AD 2023-0003R1 does not apply to this AD.

(6) This AD does not adopt the “Remarks” section of EASA AD 2023-0003R1.

(i) Airplane Flight Manual (AFM) Revision

Within 2 months after September 1, 2022 (the effective date of AD 2022-12-10), revise the applicable existing AFM to incorporate the information specified in figure 1 to paragraph (i) of this AD after sub-sub-section 2-200-70, Emergency Procedures, ADS with IRS miscompare, of sub-section 2-200, Emergency Procedures, of Section 2—Emergency Procedures.

BILLING CODE 4910-13-P

Figure 1 to Paragraph (i)—Training Areas of Special Emphasis for Pilot (TASEp) Tp-118-EZII Info for AFM

BILLING CODE 4910-13-C

(j) No Reporting Requirement

Although the material referenced in EASA AD 2023-0003R1 specifies to submit certain information to the manufacturer, this AD does not include that requirement.

(k) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, send it to the attention of the person identified in paragraph (l) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or Dassault Aviation's EASA Design Organization Approval (DOA). If approved by the DOA, the approval must include the DOA-authorized signature.

(l) Additional Information

For more information about this AD, contact William Reisenauer, Aviation Safety Engineer, FAA, 1600 Stewart Avenue, Suite 410, Westbury, NY 11590; phone: 516-228-7301; email: 9-AVS-AIR-BACO-COS@faa.gov.

(m) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2023-0003R1, dated September 26, 2024.

(ii) [Reserved]

(3) For EASA material identified in this AD, contact EASA, Konrad-Adenauer-Ufer 3, 50668 Cologne, Germany; telephone +49 221 8999 000; email ADs@easa.europa.eu. You may find this material on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on October 31, 2025.
Steven W. Thompson,
Acting Deputy Director, Compliance & Airworthiness Division, Aircraft Certification Service.

[FR Doc. 2025-21480 Filed 11-26-25; 8:45 am]

BILLING CODE 4910-13-P